DEPARTMENT OF TRANSPORTATION

National Highway Traffic Safety Administration

[Docket NHTSA-99-5087]

Rulemaking Program Meeting

AGENCY: National Highway Traffic Safety Administration (DOT).

ACTION: Notice of NHTSA rulemaking status meeting.

SUMMARY: This notice announces a public meeting at which NHTSA will answer questions from the public and the automobile industry regarding the agency's vehicle regulatory program.

DATES: The Agency's regular public meeting relating to its vehicle regulatory program will be held on Thursday, April 3, 2003, beginning at 9:45 a.m. and ending at approximately 12 p.m. at the Best Western Gateway International Hotel 9191 Wickham, Romulus, Michigan. Questions relating to the vehicle regulatory program must be submitted in writing with a diskette (Microsoft Word) by Wednesday, March 12, 2003, to the address shown below or by e-mail. If sufficient time is available, questions received after March 12, may be answered at the meeting. The individual, group or company submitting a questions(s) does not have to be present for the questions(s) to be answered. A consolidated list of the questions submitted by March 12, 2003, and the issues to be discussed will be posted on NHTSA's Web site (www.nhtsa.dot.gov) by Monday, April 1, 2003, and also will be available at the meeting. The agency will hold a second public meeting on April 3, devoted exclusively to a presentation of research and development programs. This meeting will begin at 1:30 p.m. and end at approximately 5 p.m. This meeting is described more fully in a separate announcement. The next NHTSA Public Meeting will take place on Thursday, July 17, 2003, at the Hyatt Regency in Baltimore, on the Inner Harbor, 300 Light Street Baltimore, MD 21202.

ADDRESSES: Questions for the April 3, NHTSA Rulemaking Status Meeting, relating to the agency's vehicle regulatory program, should be submitted to Delia Lopez, NVS-100, National Highway Traffic Safety Administration, Room 5401, 400 Seventh Street, SW., Washington, DC 20590, Fax Number 202-366-4329, e-mail dlopez@nhtsa.dot.gov. The meeting will be held at the Best Western Gateway International Hotel, Romulus, Michigan 48174, the telephone number is (734) 728-2800.

FOR FURTHER INFORMATION CONTACT: Delia Lopez, (202) 366-1810.

SUPPLEMENTARY INFORMATION: NHTSA holds regular public meetings to answer questions from the public and the regulated industries regarding the agency's vehicle regulatory program. Questions on aspects of the agency's research and development activities that relate directly to ongoing regulatory actions should be submitted, as in the past, to the agency's Rulemaking Office. Transcripts of these meetings will be available for public inspection in the DOT Docket in Washington, DC, within four weeks after the meeting. Copies of the transcript will then be available at ten cents a page, (length has varied from 80 to 150 pages) upon request to DOT Docket, Room PL-401, 400 Seventh Street, SW., Washington, DC 20590. The DOT Docket is open to the public from 10 a.m. to 5 p.m. The transcript may also be accessed electronically at http://dms.dot.gov, at docket NHTSA-99-5087. Questions to be answered at the public meeting should be organized by categories to help us process the questions into an agenda form more efficiently.

Sample format:

I. Rulemaking

A. Crash avoidance

B. Crashworthiness

C. Other Rulemakings

II. Consumer Information

III. Miscellaneous

NHTSA will provide auxiliary aids to participants as necessary. Any person desiring assistance of “auxiliary aids” (e.g., sign-language interpreter, telecommunications devices for deaf persons (TDDs), readers, taped texts, brailled materials, or large print materials and/or a magnifying device), please contact Delia Lopez on (202) 366-1810, by COB Monday, April 1, 2003.

Issued: January 24, 2003.
Stephen R. Kratzke,
Associate Administrator for Rulemaking.

[FR Doc. 03-2427 Filed 1-31-03; 8:45 am]

BILLING CODE 4910-59-P